DEPARTMENT OF AGRICULTURE

Office of the Secretary

Notice of Solicitation of Members to the National Genetic Research Advisory Council

AGENCY: Research, Education, and Economics, USDA.

ACTION: Solicitation of members.

SUMMARY: The notice announced the USDA's request for membership on the National Genetic Resources Advisory Board. The notice was published in the Federal Register on March 24, 2014.

FOR FURTHER INFORMATION CONTACT: Michele Esch, 202-720-3684 or 202-720-8408.

Correction

In the Federal Register of March 24, 2014 in FR Doc. 2014-06276, on pages 15934-15935, in the date section, read as follows:

DATES: All nomination materials should be mailed in a single, complete package and postmarked or sent electronically by June 13, 2014.

Yvette Anderson,
Federal Register Liaison Officer for ARS, ERS, and NASS.

[FR Doc. 2014-13206 Filed 6-5-14; 8:45 am]

BILLING CODE 3410-03-P